ENVIRONMENTAL PROTECTION AGENCY

[EPA-HQ-OPP-2010-0014; FRL-9351-8]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless a registrant withdraws its request. If these requests are granted, any sale, distribution, or use of products listed in this notice will be permitted after the registration has been cancelled only if such sale, distribution, or use is consistent with the terms as described in the final order.

DATES: Comments must be received on or before January 2, 2013.

ADDRESSES: Submit your comments, identified by docket identification (ID) number EPA-HQ-OPP-2010-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: Katie Weyrauch, Pesticide Re-evaluation Division (7508P), Office of Pesticide Programs, Environmental Protection Agency, 1200 Pennsylvania Ave. NW., Washington, DC 20460-0001; telephone number: (703) 308-0166; email address: weyrauch.katie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 344 pesticide products registered under FIFRA section 3 or 24(c). These registrations are listed in sequence by registration number (or company number and 24(c) number) in Tables 1 and 2 of this unit.

Table 2 contains a list of registrations for which companies paying at one of the maintenance fee caps requested cancellation in the FY 2012 maintenance fee billing cycle. Because maintaining these registrations as active would require no additional fee, the Agency is treating these requests as voluntary cancellations under 6(f)(1).

Unless the Agency determines that there are substantive comments that warrant further review of the requests or the registrants withdraw their requests, EPA intends to issue an order in the Federal Register canceling all of the affected registrations.

Table 1—Registrations With Pending Requests for Cancellation
Registration No. | Product name | Chemical name
000100-00863 | Sentinel 40WG Turf Fungicide | Cyproconazole.
000100-00874 | Sentinel 40 WG for Repackaging Use Only | Cyproconazole.
000352-00712 | Dupont Throttle MP Herbicide | Sulfentrazone, Sulfometuron, Chlorsulfuron.
000527-00106 | ML-13G | Poly(oxy-1,2-ethanediyl(dimethylimino)-1,2-ethanediyl(dimethylimino)-1,2-ethanediyl dichloride).
000527-00122 | ML-8S | Poly(oxy-1,2-ethanediyl(dimethylimino)-1,2-ethanediyl(dimethylimino)-1,2-ethanediyl dichloride).
000527-00127 | CS-EZ | Poly(oxy-1,2-ethanediyl(dimethylimino)-1,2-ethanediyl(dimethylimino)-1,2-ethanediyl dichloride).
001903-00028 | Petco Ear Mite Remedy | Pyrethrins, Piperonyl butoxide.
002724-00616 | Speer Dairy and Livestock RTU Spray | Piperonyl butoxide, Pyrethrins.
003090-00165 | Sanitized Brand T96-21 | Triclosan.
005204-00001 | Biomet TBTO | Tributyltin oxide.
005383-00127 | Microbanish R | Triclosan.
009339-00012 | Flextin Wood Treatment Concentrate | Tributyltin oxide.
009339-00014 | Flexgard Waterbase Preservative | Tributyltin oxide.
009688-00300 | RG Indoor Insect Control | Piperonyl butoxide, Pyrethrins.
010088-00070 | Bio-Cide | Carbamodithioic acid, methyl-, monopotassium salt, Carbamodithioic acid, cyano-, disodium salt.
040849-00014 | Enforcer Flea and Tick Shampoo for Pets | MGK 264, Piperonyl butoxide, Pyrethrins, Permethrin.
040849-00033 | Enforcer Ant & Roach Killer III | MGK 264, Pyrethrins, Permethrin.
040849-00034 | Enforcer Flea & Tick Spray for Pets II | Piperonyl butoxide, Permethrin, Pyrethrins.
045385-00089 | Cenol Space and Contact Spray | Phenothrin, Tetramethrin.
047000-00044 | Home-Garden and Pet Insecticide | MGK 264, Piperonyl butoxide, Pyrethrins.
050600-00012 | Alas-478 | Phosphoric acid, Benzenesulfonic acid, C10-16-alkyl derivs.
058687-00001 | Chlorine—Liquified Gas Under Pressure | Chlorine.
059807-00013 | Pyriproxyfen 11.23% Insect Growth Regulator | Pyriproxyfen.
063191-00010 | St. Gabriel Laboratories Hot Pepper Wax Insect Repellent | Capasaicin.
070385-00002 | Microban Institutional Spray X-580 | Bromine, MGK-264, Piperonyl butoxide, Pyrethrins, o-Phenylphenol, Benzenemethanaminium, N,N-dimethyl-N-(2-(2-(4-(1,1,3,3-tetramethylbutyl)phenoxy)ethoxy)ethyl)-, chloride.
CO020008 | Distinct Herbicide | Diflufenzopyr-sodium Dicamba, sodium salt.
MA070001 | Dual Magnum | S-Metolachlor.
PR110003 | Scorpion Insecticide | Dinotefuran.
WA030004 | Formaldehyde Solution 37 | Formaldehyde.
WA030014 | WIN-FLO 4F | Pentachloronitrobenzene.
WA910013 | Clean Crop Phorate 20G | Phorate.

Table 2—Registrations With Pending Requests for Cancellation Due to Non-Payment of Maintenance Fees
Registration No. | Product name | Chemical name
000100-00897 | Zephyr 0.15 EC Miticide/insecticide | Abamectin.
000100-00902 | Emamectin Benzoate Technical | Emamectin benzoate.
000100-01109 | Cyper EC Insecticide | Cypermethrin.
000100-01138 | Thiolux Jet | Sulfur.
000100-01197 | Azoxystrobin Mold-Retardant 2.08 SC | Azoxystrobin.
000100-01223 | Tecto MP 340 | Thiabendazole.
000100-01229 | Azo-Shield | Azoxystrobin.
000100-01233 | Propi-Shield | Propiconazole.
000100-01234 | Cypro-Shield | Cyproconazole.
000100-01237 | Fludi-Shield | Fludioxonil.
000100-01252 | Tecto-Shield MP 100 | Thiabendazole.
000100-01255 | Difeno-Shield | Difenoconazole.
000228-00160 | Riverdale 3 Plus 3 Amine | 2,4-D, dimethylamine salt; MCPP-p, DMA salt.
000228-00220 | Riverdale 1.25% Hexazinone Liquid Ready-To-Use Weed and Brush Killer | Hexazinone.
000228-00221 | Riverdale 2D + 2DP Amine | 2,4-D, dimethylamine salt; 2,4-DP-p, DMA salt.
000228-00230 | Riverdale 1% Bromacil Granular Weed Killer | Bromacil.
000228-00231 | Riverdale 2% Bromacil Granular Weed Killer | Bromacil.
000228-00232 | Riverdale 4% Bromacil Granular Weed Killer | Bromacil.
000228-00240 | Riverdale Liquid Chlorine Sanitizer | Sodium hypochlorite.
000228-00241 | Riverdale 2.5% Bromacil Liquid Ready-To-Use Weed Killer | 5-Bromo-3-sec-butyl-6-methyluracil, lithium salt.
000228-00263 | Riverdale Super Green Weed and Feed | 2,4-D, 2-ethylhexyl ester.
000228-00290 | Riverdale MCPA-6 Amine | MCPA, dimethylamine salt.
000228-00358 | Esteron 99 Concentrate Herbicide | 2,4-D, 2-ethylhexyl ester.
000228-00364 | Riverdale Credit Herbicide | Glyphosate-isopropylammonium.
000228-00375 | Riverdale Corsair Selective Herbicide | Chlorsulfuron.
000228-00384 | Riverdale Tahoe 3A Herbicide | Triclopyr, triethylamine salt.
000228-00385 | Riverdale Tahoe 4E Herbicide | Acetic acid, ((3,5,6-trichloro-2-pyridinyl)oxy)-, 2-butoxyethyl ester.
000228-00394 | Riverdale Resound 720 | Chlorothalonil.
000228-00396 | Riverdale Banderole Fungicide | Propiconazole.
000228-00398 | Riverdale Endurance Herbicide | Prodiamine.
000228-00399 | Riverdale Predict Herbicide | Norflurazon.
000228-00437 | Bifenthrin 0.029% Plus Fertilizer | Bifenthrin.
000228-00438 | Bifenthrin 7.9% FL Nursery | Bifenthrin.
000228-00439 | Bifenthrin Pl Granular Insecticide | Bifenthrin.
000228-00450 | Menace PL Granular Insecticide | Bifenthrin.
000228-00452 | Menace GC Granular Insecticide | Bifenthrin.
000228-00454 | Menace Nursery Granular Insecticide | Bifenthrin.
000228-00456 | Proclipse 65 WDG | Prodiamine.
000228-00481 | Bifenthrin 0.058% Granular Insecticide | Bifenthrin.
000228-00482 | Bifenthrin 0.115% Granular | Bifenthrin.
000228-00486 | Mantra 2F Greenhouse and Nursery Insecticide | Imidacloprid.
000228-00497 | Bifenthrin 0.2% Granular | Bifenthrin.
000228-00518 | Tahoe 3A Herbicide | Triclopyr, triethylamine salt.
000228-00519 | Menace GC 0.058% Plus Fertilizer | Bifenthrin.
000228-00532 | Imidacloprid 4.6 F PCO | Imidacloprid.
000228-00550 | ETI 108 10 H | Dithiopyr.
000228-00556 | Menace 25 MC | Bifenthrin.
000228-00559 | NUP06211 GC Insecticide | Bifenthrin; Imidacloprid.
000228-00560 | NUP 06211 | Bifenthrin; Imidacloprid.
000228-00561 | Trooper 101 Mixture Herbicide | Picloram; 2,4-D, Triisopropanolamine salt.
000228-00574 | Atera GC Granular Insecticide | Bifenthrin; Imidacloprid.
000228-00575 | Atera LC Granular Insecticide | Bifenthrin; Imidacloprid.
000228-00576 | Atera 0.36 GC Granular Insecticide | Bifenthrin, Imidacloprid.
000228-00577 | Atera 0.36 LC Granular Insecticide | Bifenthrin, Imidacloprid.
000228-00578 | Atera 0.3 GC Fertilizer Insecticide | Bifenthrin, Imidacloprid.
000228-00579 | Atera 0.3 LC Fertilizer Insecticide | Bifenthrin, Imidacloprid.
000228-00580 | Atera 0.225 GC Fertilizer Insecticide | Bifenthrin, Imidacloprid.
000228-00581 | Atera 0.225 LC Fertilizer Insecticide | Bifenthrin, Imidacloprid.
000228-00582 | Atera 0.18 GC Fertilizer Insecticide | Bifenthrin, Imidacloprid.
000228-00583 | Atera 0.18 LC Fertilizer Insecticide | Bifenthrin, Imidacloprid.
000228-00584 | Atera 0.15 GC Fertilizer Insecticide | Bifenthrin, Imidacloprid.
000228-00585 | Atera 0.15 LC Fertilizer Insecticide | Bifenthrin, Imidacloprid.
000228-00598 | Nufarm Bifenthrin Pro 2 | Bifenthrin.
000228-00605 | Nufarm Permethrin Pro | Permethrin.
000228-00622 | Chlorpyrifos SPC 0.5% MCB Insecticide | Chlorpyrifos.
000228-00634 | Quinclorac G-Pro 75 DF | Quinclorac.
000228-00645 | Oxadiazon E-Pro Granular Herbicide | Oxadiazon.
000228-00646 | Mepiquat E-Ag Plant Growth Regulator | Mepiquat chloride.
000228-00648 | T-Pac E-Pro EC Plant Growth Regulator | Trinexapac-ethyl.
000228-00650 | ETI 106 01 I—NC | Abamectin.
000228-00651 | ETI 106 01 I—C | Abamectin.
000228-00663 | ETI 105 01 H | Oxyfluorfen.
000228-00664 | ETI 114 01 H | Nicosulfuron.
000228-00677 | ETI 114 02 H | Nicosulfuron.
000264-00380 | Prep Brand Plant Regulator for Cotton | Ethephon.
000264-00686 | Tribute Solo WG32 Herbicide | Foramsulfuron; Iodosulfuron-methyl-sodium.
000264-00700 | Dropp SC Cotton Defoliant | Thidiazuron.
000264-00732 | Sencor 70% Wettable Powder Sugarcane Herbicide | Metribuzin.
000264-00821 | Ginstar(R) 4.5 SC Cotton Defoliant | Diuron; Thidiazuron.
000264-00828 | Gaucho 600 SC Insecticide | Imidacloprid.
000264-00857 | NTN 33893 Liquid Ant Bait | Imidacloprid.
000264-00962 | Gaucho 480 FS Flowable | Imidacloprid.
000264-00963 | Gaucho 75 ST FS Insecticide | Imidacloprid.
000264-01037 | RTP 072006 Liquid Ant Bait | Imidacloprid.
000264-01046 | Thidiazuron—Tech | Thidiazuron.
000264-01058 | RTP 017495 | Imidacloprid.
000264-01110 | Aeris Votivo | Imidacloprid; Thiodicarb; Bacillus firmus strain I-1582.
000524-00370 | Roundup L & G Concentrate Grass & Weed Killer | Glyphosate-isopropylammonium.
000524-00440 | Roundup Rainfast Herbicide | Glyphosate-isopropylammonium.
000524-00526 | MON 37525W Herbicide MON 37525 NC | Sulfosulfuron.
000524-00541 | MON 78736 Herbicide | Glyphosate-isopropylammonium; Triclopyr, triethylamine salt.
000524-00542 | MON 78783 Herbicide | Glyphosate-isopropylammonium; Triclopyr, triethylamine salt.
000524-00546 | MON 79158 Herbicide | Diquat dibromide; Glyphosate-isopropylammonium; Imazapic-ammonium.
000524-00547 | MON 78868 Herbicide | Diquat dibromide; Glyphosate-isopropylammonium; Imazapic-ammonium.
000577-00552 | Vinyl Waterbase Antifouling Paint 888 | Cuprous oxide.
000577-00553 | 8010-682-6437 Paint, Antifouling, Vinyl-Red MIL-P-15931B, Formula 121/ | Cuprous oxide.
000577-00554 | 8010-290-4247 Paint, Antifouling Vinyl-Black MIL-P-16189B FORM 129/63 | Copper as elemental; Cupric oxide; Cuprous oxide.
000577-00555 | Paint, Antifouling, Cold Plastic Shipbottom, Formula 105 MIL-P-19451B | Cuprous oxide.
000577-00563 | Copper Paint No. 1 | Cuprous oxide.
000577-00564 | Copper Paint No. 2 | Cuprous oxide.
000577-00565 | Rappahannock Copper Paint #4 | Cuprous oxide.
000577-00566 | Rappahannock Copper Paint #7 | Cuprous oxide.
000577-00567 | Copper Paint No. 3 Rappoxy 75 Red | Cuprous oxide.
000577-00568 | Copper Paint No. 5 Rappoxy 60 Red | Cuprous oxide.
000829-00279 | SA-50 Dursban 2E Insecticide | Chlorpyrifos.
000829-00280 | SA-50 Dursban 4-E Insecticide | Chlorpyrifos.
000829-00294 | Deltamethrin 0.1% Granules | Deltamethrin.
000961-00273 | Lebanon Preemergence Weed Control | DCPA.
000961-00376 | Koos Crabgrass Preventer with 0.574 Barricade Preemergence Herbicide | Prodiamine.
000961-00377 | Koos Crabgrass Preventer with 00.383 Barricade Preemergence Herbicide | Prodiamine.
000961-00384 | Par Ex Slow Release Fertilizer with 0.21% Barricade Herbicide | Prodiamine.
000961-00385 | Par Ex Slow Release Fertilizer with 0.275% Barricade Herbicide | Prodiamine.
000961-00386 | Par Ex Slow Release Fertilizer with 0.30% Barricade | Prodiamine.
001381-00217 | Prosolutions Propiconazole | Propiconazole.
001529-00047 | Fungitrol 2010 | Chlorothalonil; Carbamic acid, butyl-, 3-iodo-2-propynyl ester.
001529-00048 | Fungitrol 2002 | Chlorothalonil; 1,3,5-Triazine-2,4-diamine, N-cyclopropyl-N′-(1,1-dimethylethyl)-6-(methylthio)-.
001677-00208 | Spiriclens Spray | Isopropyl alcohol.
001677-00224 | Premier 70/30 Sterile IPA Spray | Isopropyl alcohol.
001677-00227 | Performance LS Laundry Sanitizer | Ethaneperoxoic acid; Hydrogen peroxide.
002517-00080 | Sergeant's Cyphenothrin + IGR Squeeze-On for Dogs | Cyphenothrin; Pyriproxyfen.
002517-00085 | Sergeant's Cyphenothrin Squeeze-On for Dogs | Cyphenothrin.
002596-00122 | Hartz 2 in 1 Flea & Tick Spray with Deodorant for Dogs III | Gardona (cis-isomer).
002596-00123 | Hartz 2 in 1 Fast Acting Flea & Tick Spray for Cats With Rabon | Gardona (cis-isomer).
002724-00651 | Farnam Natural Bug Guard Mist A | Pyrethrins; Piperonyl butoxide.
002724-00690 | Ion Moss | Copper as elemental; Zinc.
003008-00017 | Osmose K-33-C (72%) Wood Preservative | Arsenic oxide; Chromic acid; Cupric oxide.
003432-00028 | On Guard Premium Pool Algaecide Granular Concentrate | Poly(oxyethylene(dimethylimino)ethylene(dimethylimino)ethylene dichloride).
004787-00036 | Glyfos Au Herbicide | Glyphosate-isopropylammonium.
004822-00410 | Fresh Scent Vanish Thick Liquid Toilet Bowl Cleaner | Alkyl* dimethyl ethylbenzyl ammonium chloride; Hydrochloric acid.
004822-00450 | Off! Yard & Deck Area Repellent II | Permethrin; d-trans-Allethrin.
005785-00068 | Bromine Chloride | Bromine chloride.
006836-00210 | Dantobrom TC | 1-Bromo-3-chloro-5,5-dimethylhydantoin; 1,3-Dichloro-5,5-dimethylhydantoin; 1,3-Dichloro-5-ethyl-5-methyl- hydantoin.
007313-00020 | ABC 3 Marine Antifouling Paint | Cuprous oxide.
007969-00223 | Regent TS Insecticide | Fipronil.
008622-00026 | Halobrom-G | 2,4-Imidazolidinedione, 1-bromo-3-chloro-5,5-dimethyl-.
008622-00027 | Halobrom T-30 | 2,4-Imidazolidinedione, 1-bromo-3-chloro-5,5-dimethyl-.
008622-00065 | Biobrom C-100T | 2,2-Dibromo-3-nitrilopropionamide.
008622-00066 | Sodium Bromide 45% | Sodium bromide.
008622-00067 | Sodium Bromide 43% | Sodium bromide.
008622-00076 | Fuzzicide-SP (Ammonium Bromide) | Ammonium bromide.
035935-00001 | Trifluralin 50W | Trifluralin.
040810-00020 | Irgaguard F3000 | Thiabendazole.
042964-00031 | A-456-N | Alkyl* dimethyl benzyl ammonium chloride *(50%C14, 40%C12, 10%C16); 1-Decanaminium, N-decyl-N,N-dimethyl-, chloride.
045309-00010 | Aqua Clear Algae Preventative | Poly(oxyethylene(dimethylimino)ethylene(dimethylimino)ethylene dichloride).
045309-00011 | Spa Clear Non-Foaming Algaecide | Poly(oxyethylene(dimethylimino)ethylene(dimethylimino)ethylene dichloride).
045309-00037 | Swim Free Non Foaming Black Algaecide for Swimming Pool | Poly(oxyethylene(dimethylimino)ethylene(dimethylimino)ethylene dichloride).
045309-00038 | Hydrology Cooling Tower Microbiocide | Poly(oxyethylene(dimethylimino)ethylene(dimethylimino)ethylene dichloride).
045309-00080 | Aqua Clear Algae Eliminator | Poly(oxyethylene(dimethylimino)ethylene(dimethylimino)ethylene dichloride).
048273-00012 | Asulam Herbicide | Asulam, sodium salt.
048273-00020 | Marman Mancozeb 80% WP | Mancozeb.
050534-00114 | Tuffcide 960 | Chlorothalonil.
050534-00115 | Tuffcide 404 | Chlorothalonil.
050534-00197 | Tuffcide 500 | Chlorothalonil.
050534-00227 | Tuffcide 960 MUP | Chlorothalonil.
050534-00228 | Tuffcide 404 MUP | Chlorothalonil.
051036-00448 | Glyphosate Isopropylamine Salt 62% Technical Solution | Glyphosate-isopropylammonium.
055146-00051 | ACP Flowable Sulfur | Sulfur.
055146-00061 | Gibgro 2LS | Gibberellic acid.
055146-00066 | Gibgro 10% Powder | Gibberellic acid.
055146-00067 | Gibgro 20% Tablet | Gibberellic acid.
055146-00068 | Gibgro P | Gibberellic acid.
055146-00069 | Gibgro 2L | Gibberellic acid.
055146-00089 | Fireman | Calcium oxytetracycline.
055146-00095 | Enable WSP/Agritin Agricultural Fungicide Co-Pack | Fenbuconazole; Fentin hydroxide.
055146-00104 | NUP 08103 | Myclobutanil.
061272-00004 | Weed Out 2,4-D Amine 6 Pound | 2,4-D, dimethylamine salt.
061483-00011 | P1/P13 Creosote Oil | Creosote oil (Note: Derived from any source).
061483-00012 | P2 Creosote Coal Tar Solution | Coal tar; Creosote oil.
066330-00397 | Supremacy Herbicide Tank Mix | Fluroxypyr 1-methylheptyl ester; Thifensulfuron; Tribenuron-methyl.
066330-00398 | Everest KO Herbicide Tank Mix | Flucarbazone-sodium; Fluroxypyr 1-methylheptyl ester.
067071-00012 | Acticide DQ | 5-Chloro-2-methyl-3(2H)-isothiazolone; 2-Methyl-3(2H)-isothiazolone.
067071-00052 | Acticide MBL 5505 | Bronopol; 2-Methyl-3(2H)-isothiazolone; 1,2-Benziso- thiazolin-3-one.
067262-00008 | Aqua Chem Balanced for Clean Spas Algaecide | Poly(oxyethylene (dimethylimino) ethylene (dimethylimino) ethylene dichloride).
067690-00027 | Spin Out 300 | Copper hydroxide.
069681-00023 | Clor Mor Cal-Shock Plus | Calcium hypochlorite; Boron sodium oxide, pentahydrate.
070506-00117 | Clopyr Brush | 3,6-Dichloro-2-pyridinecarboxylic acid, alkanolamine salts.
070506-00215 | Orbit 45WP Agpak/Dupont Super Tin 80WP Agpak | Fentin hydroxide; Propiconazole.
071368-00015 | 2,4-D 2-EHE Gel Broadleaf Herbicide | 2,4-D, 2-ethylhexyl ester.
071368-00016 | Rhonox (R) EW Broadleaf Herbicide | MCPA, 2-ethylhexyl ester.
071368-00019 | Weedone 638 Solventless Broadleaf Herbicide | 2,4-D; 2,4-D, 2-ethylhexyl ester.
071368-00023 | Nufarm Kamba 4SL Herbicide | Benzoic acid, 3,6-dichloro-2-methoxy-, compd with N-methylmethanamine (1:1).
071368-00026 | Mextrol WP Herbicide | Bromoxynil octanoate.
071368-00041 | Pasture MD | 2,4-D, dimethylamine salt; Dicamba, dimethylamine salt; Metsulfuron.
071368-00064 | Assert SG Herbicide | Imazamethabenz.
071368-00067 | Bromox/MCPA 2-2 Herbicide | Bromoxynil octanoate; MCPA, 2-ethylhexyl ester.
071368-00068 | Bromox + Atrazine | Atrazine; Bromoxynil octanoate.
071368-00069 | Bromox 2E | Bromoxynil octanoate.
071368-00072 | Cutback | 2,4-D, triisopropanolamine salt; 3,6-Dichloro-2-pyridinecarboxylic acid, alkanolamine salts.
071368-00073 | NUP 05 022 Herbicide | Clopyralid; MCPA, 2-ethylhexyl ester.
085827-00001 | Green Light Wettable Dusting Sulphur | Sulfur.
085827-00010 | Green Light Com-Pleet 18% Systemic Grass & Weed Killer | Glyphosate-isopropylammonium.
085827-00011 | Green Light Com-Pleet 1.92% Systemic Grass & Weed Killer | Glyphosate-isopropylammonium.
085827-00012 | Green Light Com-Pleet Systemic Grass & Weed Killer | Glyphosate-isopropylammonium.
085827-00013 | Green Light Permethrin Dust | Permethrin.
AK020001 | Linex 50 DF | Linuron.
AL020007 | Super Boll | Ethephon.
AL020008 | Acephate 75SP | Acephate.
AL070004 | Provado 1.6 Flowable Insecticide | Imidacloprid.
AR050002 | Ricestar HT Herbicide | Fenoxaprop-p-ethyl.
AR050008 | Ignite 280 SL Herbicide | Glufosinate.
AR960004 | Linex 4L | Linuron.
AZ060010 | Karate Insecticide | lambda-Cyhalothrin.
AZ070001 | Bollgard Cotton | Bacillus thuringiensis var. kurstaki delta endotoxin protein as produced by the Cry1A(c) gene.
AZ990003 | Imidan 70-WP Agricultural Insecticide | Phosmet.
CA050005 | Direx 4L | Diuron.
CA050008 | Courier 40SC Insect Growth Regulator | Buprofezin.
CA060005 | Admire Pro Systemic Protectant | Imidacloprid.
CA070010 | Talus 40 SC Insect Growth Regulator | Buprofezin.
CA860037 | Furadan 4 Flowable | Carbofuran.
CA980018 | Olin HTH Dry Chlorinator Granular | Calcium hypochlorite.
CO000003 | Acephate 75SP | Acephate.
CO030003 | Balance 4SC Herbicide | Isoxaflutole.
CO030010 | Epic DF Herbicide | Flufenacet; Isoxaflutole.
CO070005 | Talus 40 SC Insect Growth Regulator | Buprofezin.
CO970001 | Linex 50 DF | Linuron.
CT020002 | Captan 50 Wettable Powder | Captan.
DE080001 | Ridomil Gold Copper | Copper hydroxide; Metalaxyl-M.
FL040012 | Courier 40SC Insect Growth Regulator | Buprofezin.
FL050005 | Karmex DF | Diuron.
FL070004 | Provado 1.6 Flowable Insecticide | Imidacloprid.
FL860008 | Decco Salt No. 19 | Thiabendazole.
FL940012 | Captec 4L-Captan Flowable Fungicide | Captan.
FL980005 | Folicur 3.6 F Foliar Fungicide | Tebuconazole.
GA020004 | Super Boll | Ethephon.
GA040001 | Chlorpyrifos 4# AG | Chlorpyrifos.
GA040008 | Dupont Asana XL Insecticide | Esfenvalerate.
HI960004 | Ethepon 2# | Ethephon.
ID020019 | Acephate 75SP | Acephate.
ID050003 | Everest 70% Water Dispersible Granular Herbicide | Flucarbazone-sodium.
ID060003 | Furadan LFR Insecticide/nematicide | Carbofuran.
ID080008 | Endura Fungicide | Boscalid.
ID940008 | Dimethoate 4E | Dimethoate.
ID960013 | Aliette WDG Fungicide | Fosetyl-Al.
ID970011 | Dimethoate 4E | Dimethoate.
KS030006 | Direx 4L | Diuron.
KS050001 | Balance Pro | Isoxaflutole.
KS050002 | Epic DF Herbicide | Flufenacet; Isoxaflutole.
KS050005 | Radius Herbicide | Flufenacet; Isoxaflutole.
KS090002 | Balance Flexx Herbicide | Isoxaflutole.
LA020004 | Direx 4L | Diuron.
LA040003 | Phorate 20-G | Phorate.
LA050002 | Ricestar HT Herbicide | Fenoxaprop-p-ethyl.
LA050005 | Acephate 90SP | Acephate.
LA080011 | Baseline Pretreat Termiticide | Bifenthrin.
LA990016 | Griffin Linuron 4L Flowable Weed Killer | Linuron.
MD980002 | Princep Caliber 90 Herbicide | Simazine.
ME050002 | Dupont Assure II Herbicide | Quizalofop-p-ethyl.
MN000003 | Axiom DF Herbicide | Flufenacet; Metribuzin.
MN000006 | Dupont Assure II Herbicide | Quizalofop-p-ethyl.
MN060001 | Everest 70% Water Dispersible Granular Herbicide | Flucarbazone-sodium.
MO990002 | Epic | Flufenacet; Isoxaflutole.
MS010007 | Glyphosate 4 Herbicide | Glyphosate-isopropylammonium.
MS020019 | Acephate 90SP | Acephate.
MS070001 | Chlorpyrifos 4E AG | Chlorpyrifos.
MS080002 | Temprano | Abamectin.
MS110005 | A15189 Herbicide | Glyphosate; Mesotrione; S-Metolachlor.
MS960007 | Linex 4L | Linuron.
MT080002 | Endura Fungicide | Boscalid.
MT990005 | Gustafson LSP Flowable Fungicide | Thiabendazole.
NC010003 | Captan 50-WP | Captan.
NC080006 | Permethrin 3.2 AG | Permethrin.
NC100002 | Prime + EC | Flumetralin.
ND010012 | Kumulus DF | Sulfur.
ND110006 | AE 0172747 Herbicide | Tembotrione.
NM020001 | Arsenal Herbicide | Imazapyr, isopropylamine salt.
NY070005 | 4-Poster-Tickicide | Permethrin.
NY080013 | Headline Fungicide | Pyraclostrobin.
NY110001 | Headline SC | Pyraclostrobin.
OH040001 | Dual Magnum Herbicide | S-Metolachlor.
OH060002 | Dual Magnum | S-Metolachlor.
OR040017 | Axiom DF Herbicide | Flufenacet; Metribuzin.
OR040022 | Hoelon 3EC Herbicide | Diclofop-methyl.
OR050027 | Everest 70% Water Dispersible Granular Herbicide | Flucarbazone-sodium.
OR060017 | Furadan LFR Insecticide/nematicide | Carbofuran.
OR080013 | Pendant 3.3 EC | Pendimethalin.
OR080023 | Rely 200 Herbicide | Glufosinate.
PA070004 | Talus 40 SC Insect Growth Regulator | Buprofezin.
PA080003 | Dual Magnum | S-Metolachlor.
PR020002 | Mertect (R) 340-F Fungicide | Thiabendazole.
PR030001 | Reglone Dessicant | Diquat dibromide.
PR890002 | Ethrel Pineapple Growth Regulator | Ethephon.
SC040001 | Chlorpyrifos 4# AG | Chlorpyrifos.
SC960007 | Captan 50 Wettable Powder | Captan.
SC980006 | Captan 50 Wettable Powder | Captan.
SD000015 | Balance Pro Herbicide | Isoxaflutole.
SD040001 | Define SC Herbicide | Flufenacet.
SD040005 | Princep 4L | Simazine.
SD040006 | Axiom DF Herbicide | Flufenacet; Metribuzin.
SD050002 | Epic DF Herbicide | Flufenacet; Isoxaflutole.
SD060004 | Frontier 6.0 Herbicide | Dimethenamid.
SD060008 | Domain DF Herbicide | Flufenacet; Metribuzin.
TN070003 | Provado 1.6 Flowable Insecticide | Imidacloprid.
TX010015 | Griffin Linuron 4L Flowable Weed Killer | Linuron.
TX030008 | Direx 4L | Diuron.
TX070002 | Vista | Fluroxypyr 1-methylheptyl ester.
TX090005 | Dupont Layby Pro Herbicide | Diuron; Linuron.
TX930021 | Dimethoate 4E | Dimethoate.
UT000001 | Acephate 75SP | Acephate.
UT090003 | Endura Fungicide | Boscalid.
VA070001 | Talus 40 SC Insect Growth Regulator | Buprofezin.
WA000014 | Daconil SDG | Chlorothalonil.
WA010018 | Manzate 200 DF Fungicide | Mancozeb.
WA010033 | Carzol SP Miticide/insecticide In Water Soluble Packaging | Formetanate hydrochloride.
WA030023 | Axiom DF Herbicide | Flufenacet; Metribuzin.
WA050006 | Mycoshield | Calcium oxytetracycline.
WA050011 | Mycoshield | Calcium oxytetracycline.
WA060010 | Osprey Herbicide | Mesosulfuron-methyl.
WA940026 | Captan 50 Wettable Powder | Captan.
WA960003 | Dimethoate 4E | Dimethoate.
WA970030 | Dimethoate 4E | Dimethoate.
WI020018 | Acephate 75SP | Acephate.
WV070001 | Provado 1.6 Flowable Insecticide | Imidacloprid.
WY080004 | Endura Fungicide | Boscalid.

Table 3 of this unit includes the names and addresses of record for all registrants of the products in Tables 1 and 2 of this unit, in sequence by EPA company number. This number corresponds to the first part of the EPA registration numbers of the products listed in this unit.

Table 3—Registrants Requesting Voluntary Cancellation
EPA company No. | Company name and address
100; AZ060010; DE080001; MA070001; MD980002; MS110005; NC100002; OH040001; OH060002; PA080003; PR020002; PR030001; SD040005 | Syngenta Crop Protection, LLC, d/b/a Syngenta Crop Protection, Inc., P.O. Box 18300, Greensboro, NC 27419-300.
228 | Nufarm Americas, Inc., 4020 Aerial Center Pkwy., Ste. 103, Morrisville, NC 27560.
264; AL070004; AR050002; AR050008; CA060005; CO030003; CO030010; FL980005; FL070004; ID960013; KS050001; KS050002; KS050005; KS090002; LA050002; MN000003; MO990002; MT990005; ND110006; OR040017; OR040022; OR080023; PR890002; SD000015; SD040001; SD040006; SD050002; SD060008; TN070003; WA030023; WA060010; WV070001 | Bayer Cropscience LP, P.O. Box 12014, 2 T.W. Alexander Drive, Research Triangle Park, NC 27709.
352; AK020001; AL020007; AR960004; CA050005; CO970001; GA020004; GA040008; KS030006; LA990016; LA020004; ME050002; MN000006; MS960007; TX010015; TX030008; TX090005 | E. I. Du Pont De Nemours And Company (S300/419), 1007 Market Street, Wilmington, DE 19898-0001.
524; AZ070001 | Monsanto Co., 1300 I Street NW., Suite 450 E., Washington, DC 20005.
527 | Rochester Midland Corporation, 155 Paragon Drive, Rochester, NY 14624.
577 | The Sherwin-Williams Co., Cuprinol Group/The Thompson's Co., 101 Prospect Ave., Cleveland, OH 44115-1075.
829 | Southern Agricultural Insecticides, Inc., P.O. Box 218, Palmetto, FL 34220.
961 | Lebanon Seaboard Corp., 1600 E. Cumberland Street, Lebanon, PA 17042.
CA980018 | Arch Chemicals, Inc., 5660 New Northside Drive NW., Suite 1100, Atlanta, GA 30328.
1381; OR080013 | Winfield Solutions, LLC, P.O. Box 64589, St. Paul, MN 55164-0589.
1529 | International Specialty Products, 1361 Alps Rd., Wayne, NJ 07470.
1677 | Ecolab, Inc., 370 North Wabasha Street, St. Paul, MN 55102.
1903 | Eight in One Pet Products, Inc., 3001 Commerce St., Blacksburg, VA 24060.
2517 | Sergeant's Pet Care Products, Inc., 2625 South 158th Plaza, Omaha, NE 68130.
2596 | The Hartz Mountain Corp., 400 Plaza Drive, Secaucus, NJ 07094.
2724 | Wellmark International—d/b/a Central Life Sciences, 1501 E. Woodfield Rd., Ste. 200 W., Schaumburg, IL 60173.
3008 | Osmose, Inc., 980 Ellicott St., Buffalo, NY 14209.
3090 | Sanitized, Inc., 57 New Milford Tkpe., P.O. Box 2211, New Preston, CT 06777-0211.
3432 | N. Jonas & Co., Inc., P.O. Box 425, Bensalem, PA 19020.
4787 | Cheminova, Inc., 1600 Wilson Blvd., Suite 700, Arlington, VA 22209.
4822 | S.C. Johnson & Son, Inc., 1525 Howe Street, Racine, WI 53403.
5204 | Arkema, Inc., 900 First Avenue, King of Prussia, PA 19406-1308.
5383 | Troy Chemical Corp., 8 Vreeland Road, P.O. Box 955, Florham Park, NJ 07932-4200.
5785 | Great Lakes Chemical Corp., P.O. Box 2200, West Lafayette, IN 47996-2200.
6836 | Lonza, Inc., 90 Boroline Rd., Allendale, NJ 07401.
7313 | PPG Architectural Finishes, Inc., 4325 Rosanna Drive, Allison Park, PA 15101.
7969; ID080008; MT080002; NY080013; NY110001; SD060004; UT090003; WY080004 | BASF Corp., Agricultural Products, P.O. Box 13528, Research Triangle Park, NC 27709-3528.
8622 | ICL-IP America, Inc., 95 Maccorkle Ave. Southwest, South Charleston, WV 25303.
9339 | Flexabar Corp., 1969 Rutgers University Blvd., Lakewood, NJ 08701.
9688 | Chemsico, P.O. Box 142642, St. Louis, MO 63114-0642.
10088 | Athea Laboratories, Inc., P.O. Box 240014, Milwaukee, WI 53224.
10163; AZ990003; WA010033 | Gowan Co., P.O. Box 5569, Yuma, AZ 85366-8844.
35935 | Nufarm Limited, 4020 Aerial Center Pkwy., Ste. 103, Morrisville, NC 27560.
40810 | BASF Corp., 100 Campus Drive, Florham Park, NJ 07932.
40849 | Zep Commercial Sales & Service, Agent: Connie Welch and Associates, 4196 Merchant Plaza #344, Lake Ridge, VA 22192.
42964 | Airkem Professional Products, Division of Ecolab, Inc., 370 North Wabasha Street, St. Paul, MN 55102.
45309 | Aqua Clear Industries, LLC, P.O. Box 2456, Suwanee, GA 30024-0980.
45385 | CTX-Cenol, Inc., Agent: H.R. McLane, Inc., 7210 Red Road, Suite 206A, Miami, FL 33143.
47000 | Chem-Tech, LTD., 4515 Fleur Dr., #303, Des Moines, IA 50321.
48273 | Marman USA, Inc., 500 N. Westshore Blvd., Suite 405, Tampa, FL 33609.
50534; WA000014 | GB Biosciences Corp., P.O. Box 18300, Greensboro, NC 27419-5458.
50600 | Shepard Bros., Inc., 503 S. Cypress St., La Habra, CA 90631.
51036; MS010007 | BASF Sparks, LLC, P.O. Box 13528, Research Triangle Park, NC 27709-3528.
55146; WA050006; WA050011 | Nufarm Americas, Inc., 4020 Aerial Center Pkwy., Ste. 103, Morrisville, NC 27560.
58687 | Georgia Gulf Chemicals & Vinyls, LLC, P.O. Box 629, Plaquemine, LA 70765-0629.
59807 | OHP, Inc., Agent: Exponent, Inc., 1150 Conn. Ave. NW., Suite 1100, Washington, DC 20036.
61272 | Nufarm USA, Inc., 4020 Aerial Center Pkwy., Ste. 101, Morrisville, NC 27560-8563.
61483 | KMG-Bernuth, Inc., 9555 W. Sam Houston Pkwy. South, Suite 600, Houston, TX 77099.
63191 | St. Gabriel Organics, LLC, d/b/a, St. Gabriel Organics, Agent: Center for Regulatory Services, 5200 Wolf Run Shoals Road, Woodbridge, VA 22192.
66330; AL020008; CO000003; CT020002; FL940012; GA040001; HI960004; ID940008; ID970011; ID020019; ID050003; LA050005; MN060001; MS020019; MS070001; NC010003; NC080006; ND010012; OR050027; SC960007; SC980006; SC040001; TX930021; UT000001; WA940026; WA960003; WA970030; WI020018 | Arysta Lifescience North America, LLC, 15401 Weston Parkway, Suite 150, Cary, NC 27513.
67071 | THOR GMBH, Agent: THOR Specialties, Inc., 50 Waterview Dr., Shelton, CT 06484.
67262 | Recreational Water Products, Inc., d/b/a Recreational Water Products, P.O. Box 1449, Buford, GA 30515-1449.
67690 | Sepro Corp., 11550 N. Meridian St., Suite 600, Carmel, IN 46032.
69681 | Allchem Performance Products, Inc., 6010 NW, First Place, Gainesville, FL 32607.
70385 | Prorestore Products, Agent: Lewis & Harrison, LLC, 122 C Street NW., Suite 740, Washington, DC 20001.
70506; WA010018 | United Phosphorus, Inc., 630 Freedom Business Center, Suite 402, King of Prussia, PA 19406.
71368 | Nufarm Americas, Inc., 4020 Aerial Center Pkwy., Ste. 103, Morrisville, NC 27560.
85827 | Green Light, A Valent U.S.A. Co., c/o Valent U.S.A. Corp., 1101 14th Street NW., Suite 1050, Washington, DC 20005.
CA050008; CA070010; CO070005; FL040012; PA070004; VA070001 | Nichino America, Inc., 4550 New Linden Hill Rd., Suite 501, Wilmington, DE 19808.
CA860037; ID060003; LA080011; OR060017 | FMC Corp., Agricultural Products Group, Attn: Michael C. Zucker, 1735 Market St., Rm. 1978, Philadelphia, PA 19103.
CO020008 | BASF Corporation, Agricultural Products, 26 Davis Drive, P.O. Box 13528, Research Triangle Park, NC 27709-3528.
FL040012 | Nichino America, Inc., 4550 New Linden Hill Road, Suite 501, Wilmington, DE 19808.
FL050005 | Griffin, LLC, P.O. Box 1847, Valdosta, GA 31603-1847.
FL860008 | Decco US Post-Harvest, Inc., 1713 South California Ave., Monrovia, CA 91016-0120.
LA040003 | Winfield Solutions, LLC, P.O. Box 64589, St. Paul, MN 55164-0589.
MS080002 | Cheminova, Inc., 1600 Wilson Blvd., Suite 700, Arlington, VA 22209.
NM020001 | BASF Corp., P.O. Box 13528, Research Triangle Park, NC 27709-3528.
NY070005 | Y-Tex Corp., P.O. Box 1450, Cody, WY 82414-1450.
PR110003 | Argo Servicios, Inc., P.O. Box 360393, San Juan, PR 00936-0393.
TX070002 | Dow Agrosciences, LLC, 9330 Zionsville Rd. 308/2A, Indianapolis, IN 46268-1054.
WA030004 | Champion Technologies, 3200 Southwest Freeway, Suite 2700, Houston, TX 77027.
WA030014 | Amvac Chemical Corporation, 4695 MacArthur Court, Suite 1250, Newport Beach, CA 92660-1706.
WA910013 | Loveland Products, Inc., P.O. Box 1286, Greeley, CO 80632-1286.

III. What is the Agency's authority for taking this action?

Section 6(f)(1) of FIFRA provides that a registrant of a pesticide product may at any time request that any of its pesticide registrations be cancelled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 3 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products which are currently in the United States and which were packaged, labeled, and released for shipment prior to the effective date of the cancellation action. Upon cancellation of the products identified in Tables 1 and 2 of Unit II., the Agency will allow existing stocks provisions as follows:

A. Registrations Listed in Table I of Unit II

The Agency anticipates allowing registrants to sell and distribute existing stocks of these products for 1 year after the publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Registrations Listed in Table 2 of Unit II, Except Nos. CA860037, ID060003, OR060017

The effective date of cancellation will be the date of the cancellation order. The Agency anticipates allowing registrants to sell and distribute existing stocks of these products until January 13, 2013, 1 year after the date on which the maintenance fee was due. Thereafter, registrants will be prohibited from selling or distributing the pesticides identified in Table 2 of Unit II., except for export consistent with FIFRA section 17 or for proper disposal. Persons other than registrants will generally be allowed to sell, distribute, or use existing stocks until such stocks are exhausted, provided that such sale, distribution, or use is consistent with the terms of the previously approved labeling on, or that accompanied, the cancelled products.

C. Reg. Nos. CA860037, ID060003, OR060017

The effective date of cancellation of these products is the date of publication of the cancellation order in the Federal Register. EPA does not intend to allow the continued sale and distribution of existing stocks of these products after the effective date of this cancellation. There are currently no tolerances in effect for any of the food or feed crops associated with the domestic use of carbofuran products, and there have been none since the 2009 tolerance revocations took effect on December 31, 2009, (May 15, 2009, 74 FR 23046) (FRL-8413-3).

List of Subjects

Environmental protection, Pesticides and pests.

Dated: June 25, 2023.
Michael Goodis,
Acting Director, Pesticide Re-evaluation Division, Office of Pesticide Programs.

[FR Doc. 2012-16448 Filed 7-5-12; 8:45 am]

BILLING CODE 6560-50-P